DEPARTMENT OF THE INTERIOR

Fish and Wildlife Service

[FWS-R8-ES-2009-N0052; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act prohibits activities with endangered and threatened species unless a Federal permit allows such activity. The Act also requires that we invite public comment before issuing these permits.

DATES: Comments on these permit applications must be received on or before April 6, 2009.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, see ADDRESSES, (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-205600

Applicant: Bonnie E. Peterson, Sacramento, California.

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-797267

Applicant: H. T. Harvey and Associates, Los Gatos, California.

The applicant requests an amendment to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-804203

Applicant: Stephen J. Meyers, Victorville California.

The applicant requests an amendment to take (capture, handle, and band) the least Bell's vireo (Vireo bellii pusillus) in conjunction with monitoring and other life history studies throughout the range of each species in California for the purpose of enhancing its survival.

Permit No. TE-205609

Applicant: Lawrence P. Kobernus, San Francisco, California.

The applicant requests a permit to take (survey by pursuit, capture, handle and release) the callippe silverspot butterfly (Speyeria callippe callippe) in conjunction with surveys throughout the range of the species in California for the purpose of enhancing its survival.

Permit No. TE-095860

Applicant: Veronica A. Wunderlich, Pleasant Hill, California.

The permittee requests an amendment to take (harass by survey, capture, handle, and release) the California tiger salamander (Ambystoma californiense) in conjunction with surveys throughout the range of the species in California, for the purpose of enhancing its survival.

Permit No. TE-205904

Applicant: Patrick F. Golden, Denver, Colorado.

The applicant requests a permit to take (harass by survey) the southwestern willow flycatcher (Empidonax trailli extimus) in conjunction with surveys throughout the range of the species in California and Nevada for the purpose of enhancing its survival.

Permit No. TE-206822

Applicant: Brian Shomo, Lake Elsinore, California.

The applicant requests a permit to take (capture, handle, mark, and release) the Stephens' kangaroo rat (Dipodomys stephensi) in conjunction with surveys and population monitoring throughout the range of the species in Riverside County, California for the purpose of enhancing its survival.

Permit No. TE-206831

Applicant: Michael Nichols, Washington, DC.

The applicant requests a permit to take (install, activate, and photograph with remote camera), the marbled murrelet (Brachyramphus marmoratus) in conjunction with commercial filming for National Geographic Magazine at Redwood National Park, Humboldt County, California for the purpose of enhancing its survival.

Permit No. TE-028605

Applicant: SWCA Environmental Consultants, Flagstaff, Arizona.

The applicant requests an amendment to take (install, activate, and photograph with micro video camera) the southwestern willow flycatcher (Empidonax traillii extimus) in conjunction with predation control and population monitoring in Nevada for the purpose of enhancing its survival.

Permit No. TE-207873

Applicant: Carol Thompson, Ontario, California.

The applicant requests a permit to take (survey, locate, and monitor nests) the least Bell's vireo (Vireo bellii pusillus); take (capture, handle, and release) the Stephens' kangaroo rat (Dipodomys stephensi) and San Bernardino kangaroo rat (Dipodomys merriami parvus); and take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-181714

Applicant: Pieter TJ Johnson, Boulder, Colorado.

The permittee requests an amendment to take (harass by survey, capture, handle, biological sample, and release,) the California tiger salamander (Ambystoma californiense) in conjunction with research throughout the range of the species in California, for the purpose of enhancing its survival.

Permit No. TE-144965

Applicant: Williams Wildland Consulting, Marysville, California.

The applicant requests an amendment to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-207867

Applicant: Michael A. Richard, Orange, California.

The applicant requests a permit to take (capture, handle, mark, and release) the Stephens' kangaroo rat (Dipodomys stephensi) in conjunction with surveys and population monitoring in Riverside County, California for the purpose of enhancing their survival.

Permit No. TE-134338

Applicant: Brenna A. Ogg, San Diego, California.

The applicant requests an amendment to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

We solicit public review and comment on each of these recovery permit applications. Comments and materials we receive will be available for public inspection, by appointment, during normal business hours at the address listed in the ADDRESSES section of this notice.

Dated: February 26, 2009.
Michael Fris,
Regional Director, Region 8, Sacramento, California.

[FR Doc. E9-4647 Filed 3-5-09; 8:45 am]

BILLING CODE 4310-55-P